DEPARTMENT OF TRANSPORTATION

Federal Aviation Administration

14 CFR Part 39

[Docket No. 2001-NM-258-AD; Amendment 39-12419; AD 2001-17-28]

RIN 2120-AA64

Airworthiness Directives; Boeing Model 767 Series Airplanes

AGENCY: Federal Aviation Administration, DOT.

ACTION: Final rule; request for comments.

SUMMARY: This amendment adopts a new airworthiness directive (AD) that is applicable to all Boeing Model 767 series airplanes. This action requires a one-time inspection to detect abrasion damage and installation discrepancies of the wire bundles located below the P37 panel, and corrective action, if necessary. This action is necessary to detect and correct such damage and other discrepancies, which could result in arcing to structure and consequent fire or loss of function of affected systems. This action is intended to address the identified unsafe condition.

DATES: Effective September 13, 2001.

The incorporation by reference of certain publications listed in the regulations is approved by the Director of the Federal Register as of September 13, 2001.

Comments for inclusion in the Rules Docket must be received on or before October 29, 2001.

ADDRESSES: Submit comments in triplicate to the Federal Aviation Administration (FAA), Transport Airplane Directorate, ANM-114, Attention: Rules Docket No. 2001-NM-258-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-258-AD” in the subject line and need not be submitted in triplicate. Comments sent via the Internet as attached electronics files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Elias Natsiopoulos, Aerospace Engineer, Systems and Equipment Branch, ANM-130S, FAA, Seattle Aircraft Certification Office, 1601 Lind Avenue, SW., Renton, Washington 98055-4056; telephone (425) 227-1279; fax (425) 227-1181.

SUPPLEMENTARY INFORMATION: The FAA has received a report of a fire in a Boeing Model 767-300 series airplane during routine maintenance. As the maintenance crew attempted to apply external electrical power to the airplane, fire erupted in the forward electrical/electronics bay, below the P37 miscellaneous electrical equipment panel. The source of the fire was traced to chafing and subsequent arcing of power wires belonging to electrical power wire bundle W298, which is routed from the P32 R generator power panel to the P37 panel. A stringer and a web were severely damaged by the electrical arcing and had to be replaced. Some of the wires were severed, and the insulation blanket was burned. It was discovered that the routing of the bundle under the blanket violates wire bundle installation and routing requirements.

An investigation and inspection of other Model 767 series airplanes in that operator's fleet revealed similar findings at the same location, including chafed wires, loose or missing cable clamps, and other installation anomalies. The manufacturer has received no reports of similar incidents experienced by other operators of the affected airplanes.

Abrasion damage and installation discrepancies of the wire bundles located below the P37 panel could result in arcing to structure and consequent fire or loss of function of affected systems.

Explanation of Relevant Service Information

The FAA has reviewed and approved Boeing Alert Service Bulletins 767-24A0134 (for Model 767-200 and -300 series airplanes) and 767-24A0135 (for Model 767-400ER series airplanes), both dated March 15, 2001. The alert service bulletins describe procedures for:

• A one-time inspection to detect abrasion damage and installation discrepancies (including missing standoffs; missing, chafed, or loose cable clamps; chafed grommets; and wire bundles located beneath an insulation blanket) of the wire bundles W232, W298, and W2130; and the wiring and grommet at the S-29R intercostal penetration;

• Repair or replacement of any damaged wires or worn components;

• Installation of protective sleeving over the wire bundles; and

• Relocation of the wiring support standoff on the S-29R intercostal to provide more rigid support and adequate clearance between the bundle and the structural edges.

Accomplishment of the actions specified in the alert service bulletins is intended to adequately address the identified unsafe condition.

Explanation of the Requirements of the Rule

Since an unsafe condition has been identified that is likely to exist or develop on other airplanes of the same type design, this AD is being issued to detect and correct abrasion damage and installation discrepancies of the wire bundles located below the P37 panel, which could result in arcing to structure and consequent fire or loss of function of affected systems. This AD requires accomplishment of the actions specified in the alert service bulletins described previously, except as discussed below.

Differences Between AD and Alert Service Bulletins

The alert service bulletins recommend accomplishment of the actions “at the earliest opportunity when parts, manpower and facilities are available.” This AD requires compliance within 90 days. The FAA has determined that a 90-day compliance time represents the maximum interval of time allowable for affected airplanes to continue to safely operate before the required actions are accomplished. Maintenance schedules vary from operator to operator; therefore, the required compliance time will ensure that the actions will be accomplished during that maximum interval.

In addition, the alert service bulletins identify airplanes having certain serial numbers in the effectivity. However, this AD is applicable to all Boeing Model 767 series airplanes to ensure that appropriate actions are taken to address the identified unsafe condition for the fleet.

Determination of Rule's Effective Date

Since a situation exists that requires the immediate adoption of this regulation, it is found that notice and opportunity for public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons for data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-258-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A Copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-17-28 Boeing: Amendment 39-12419. Docket 2001-NM-258-AD.

Applicability: All Model 767 series airplanes, certificated in any category.

Note 1: The AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To detect and correct abrasion damage and installation discrepancies of the wire bundles located below the P37 panel, which could result in arcing to structure and consequent fire or loss of function of affected systems, accomplish the following:

Inspection

(a) Within 90 days after the effective date of this AD: Do the actions required by paragraphs (a)(1), (a)(2), and (a)(3) of this AD, in accordance with Boeing Alert Service Bulletin 767-24A0134 (for Model 767-200 and -300 series airplanes) and 767-24A0135 (for Model 767-400ER series airplanes), both dated March 15, 2001.

(1) Perform a one-time detailed visual inspection of the wire bundles located below the P37 panel to detect abrasion damage and wire installation discrepancies (including missing standoffs; missing, chafed, or loose cable clamps; chafed grommets; and wire bundles located beneath an insulation blanket). If any damage or other discrepancy is found, prior to further flight, perform corrective action in accordance with the applicable alert service bulletin.

(2) Relocate the wire support standoff.

(3) Install protective sleeving over the wire bundles.

Note. 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Patterns

(c) Special flight permits may be issued in accordance with sections 21.197 and 21.199 of the Federal Aviation Regulations (14 CFR 21.197 and 21.199) to operate the airplane to a location where the requirements of this AD can be accomplished.

Incorporation by Reference

(d) The actions shall be done in accordance with Boeing Alert Service Bulletin 767-24A0134, dated March 15, 2001; or Boeing Alert Service Bulletin 767-24A0135, dated March 15, 2001; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on September 13, 2001.

Issued in Renton, Washington, on August 20, 2001.
Vi L. Lipski,
Manager, Transport Airplane Directorate, Aircraft Certification Service.

[FR Doc. 01-21488 Filed 8-28-01; 8:45 am]

BILLING CODE 4910-13-M